SMALL BUSINESS ADMINISTRATION

[Declaration of Disaster #3623]

State of North Carolina;

(Amendment #2)

In accordance with a notice received from the Department of Homeland Security—Federal Emergency Management Agency—effective September 19, 2004, the above numbered declaration is hereby amended to include Alexander, Bladen, Cabarrus, Catawba, Cleveland, Columbus, Cumberland, Gaston, Hoke, Iredell, Lincoln, Mecklenburg, Scotland, Robeson, and Union Counties as disaster areas due to damages caused by Tropical Storm Frances occurring on September 7, 2004, and continuing through September 12, 2004.

In addition, applications for economic injury loans from small businesses located in the contiguous counties of Anson, Brunswick, Davie, Harnett, Moore, Pender, Richmond, Rowan, Sampson, Stanly, and Yadkin Counties in the State of North Carolina; and Chesterfield, Dillon, Horry, Lancaster, Marlboro, and York Counties in the State of South Carolina may be filed until the specified date at the previously designated location. All other counties contiguous to the above named primary counties have previously been declared.

All other information remains the same, i.e., the deadline for filing applications for physical damage is November 9, 2004 and for economic injury the deadline is June 10, 2005.

(Catalog of Federal Domestic Assistance Program Nos. 59002 and 59008.)
Dated: September 23, 2004.
Herbert L. Mitchell,
Associate Administrator for Disaster Assistance.

[FR Doc. 04-21894 Filed 9-29-04; 8:45 am]

BILLING CODE 8025-01-P